DEPARTMENT OF COMMERCE

International Trade Administration

[A-337-803]

Correction: Notice of Preliminary Results of Antidumping Duty Administrative Review, Preliminary Determination to Revoke the Order in Part, and Partial Rescission of Antidumping Duty Administrative Review: Fresh Atlantic Salmon from Chile

AGENCY: Import Administration, International Trade Administration, Department of Commerce.

EFFECTIVE DATE: August 7, 2002

SUMMARY: On July 31, 2002, the Department of Commerce (the Department) issued the preliminary results for the administrative review of the antidumping duty order on fresh Atlantic Salmon from Chile for the period of review July 1, 2000, through June 30, 2001. See Notice of Preliminary Results of Antidumping Duty Administrative Review, Preliminary Determination to Revoke the Order in Part, and Partial Rescission of Antidumping Duty Administrative Review: Fresh Atlantic Salmon from Chile (Preliminary Results), 67 FR 51182 (August 7, 2002). The notice erroneously stated that the published weighted-average margins applied to the period July 1, 1999, through June 30, 2000. However, the correct period is July 1, 2000, through June 30, 2001. No other changes have been made to the Preliminary Results.

FOR FURTHER INFORMATION CONTACT: Tracy Levstik or Constance Handley, at (202) 482-2815 or (202) 482-0631, respectively; AD/CVD Enforcement Office V, Group II, Import Administration, International Trade Administration, U.S. Department of Commerce, 14th Street & Constitution Avenue, NW, Washington, DC 20230.

Dated: August 19, 2002.
Faryar Shirzad,
Assistant Secretary for Import Administration.

[FR Doc. 02-21593 Filed 8-22-02; 8:45 am]

BILLING CODE 3510-DS-S